DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2019 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the spring 2019 agenda. The purpose of the Agenda is to provide information to the public on regulations that are currently under review, being proposed, or issued by Commerce. The Agenda is intended to facilitate comments and views by interested members of the public.

Commerce's fall 2019 regulatory agenda includes regulatory activities that are expected to be conducted during the period October 1, 2019, through September 30, 2020.

FOR FURTHER INFORMATION CONTACT:

Specific: For additional information about specific regulatory actions listed in the agenda, contact the individual identified as the contact person.

General: Comments or inquiries of a general nature about the Agenda should be directed to Asha Mathew, Chief Counsel for Regulation, Office of the Assistant General Counsel for Legislation and Regulation, U.S. Department of Commerce, Washington, DC 20230, telephone: 202-482-3151.

SUPPLEMENTARY INFORMATION: Commerce hereby publishes its fall 2019 Unified Agenda of Federal Regulatory and Deregulatory Actions pursuant to Executive Order 12866 and the Regulatory Flexibility Act, 5 U.S.C. 601 et seq. Executive Order 12866 requires agencies to publish an agenda of those regulations that are under consideration pursuant to this order. By memorandum of June 26, 2019, the Office of Management and Budget issued guidelines and procedures for the preparation and publication of the fall 2019 Unified Agenda. The Regulatory Flexibility Act requires agencies to publish, in the spring and fall of each year, a regulatory flexibility agenda that contains a brief description of the subject of any rule likely to have a significant economic impact on a substantial number of small entities.

Beginning with the fall 2007 edition, the internet became the basic means for disseminating the Unified Agenda. The complete Unified Agenda is available online at www.reginfo.gov, in a format that offers users a greatly enhanced ability to obtain information from the Agenda database.

In this edition of Commerce's regulatory agenda, a list of the most important significant regulatory and deregulatory actions and a Statement of Regulatory Priorities are included in the Regulatory Plan, which appears in both the online Unified Agenda and in part II of the issue of the Federal Register that includes the Unified Agenda.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet. In addition, for fall editions of the Agenda, Commerce's entire Regulatory Plan will continue to be printed in the Federal Register.

Within Commerce, the Office of the Secretary and various operating units may issue regulations. Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare and submit to NMFS Fishery Management Plans (FMPs) for fisheries within their respective areas in the EEZ. The Councils are required by law to conduct public hearings on the development of FMPs and FMP amendments. Consistent with applicable law, environmental and other analyses are developed that consider alternatives to proposed actions.

Pursuant to the Magnuson-Stevens Act, the Councils also submit to NMFS proposed regulations that they deem necessary or appropriate to implement FMPs. The proposed regulations, FMPs, and FMP amendments are subject to review and approval by NMFS, based on consistency with the Magnuson-Stevens Act and other applicable law. NMFS is responsible for conducting the rulemaking process for FMP implementing regulations. The Council process for developing FMPs and amendments and proposed regulations makes it difficult for NMFS to determine the significance and timing of some regulatory actions under consideration by the Councils at the time the semiannual regulatory agenda is published.

Commerce's fall 2019 regulatory agenda follows.

Dated: July 31, 2019.
Peter B. Davidson,
General Counsel.

International Trade Administration—Proposed Rule Stage
Sequence No. | Title | Regulation Identifier No.
178 | Regulations Concerning Scope Inquiries and Covered Merchandise Referrals From U.S. Customs and Border Protection | 0625-AB10

Bureau of Industry and Security—Final Rule Stage
Sequence No. | Title | Regulation Identifier No.
179 | Expansion of Export, Reexport, and Transfer (In-Country) Controls for Military End Use or Military End Users in the People's Republic of China (China), Russia, or Venezuela | 0694-AH53

National Oceanic and Atmospheric Administration—Proposed Rule Stage
Sequence No. | Title | Regulation Identifier No.
180 | Comprehensive Fishery Management Plan for Puerto Rico | 0648-BD32
181 | Comprehensive Fishery Management Plan for St. Croix | 0648-BD33
182 | Comprehensive Fishery Management Plan for St. Thomas/St. John | 0648-BD34
183 | International Fisheries; Western and Central Pacific Fisheries for Highly Migratory Species; Treatment of U.S. Purse Seine Fishing With Respect to U.S. Territories | 0648-BF41
184 | International Fisheries; South Pacific Tuna Fisheries; Implementation of Amendments to the South Pacific Tuna Treaty | 0648-BG04
185 | Illegal, Unregulated, and Unreported Fishing; Fisheries Enforcement; High Seas Driftnet Fishing Moratorium Protection Act | 0648-BG11
186 | International Fisheries; Western and Central Pacific Fisheries for Highly Migratory Species; Requirements to Safeguard Fishery Observers | 0648-BG66
187 | Area of Overlap Between the Convention Areas of the Inter-American Tropical Tuna Commission and the Western and Central Pacific Fisheries Commission | 0648-BH59
188 | Omnibus Deep-Sea Coral Amendment | 0648-BH67
189 | Regulatory Amendment to the Pacific Coast Groundfish Fishery Management Plan to Implement an Electronic Monitoring Program for Bottom Trawl and Non-Whiting Midwater Trawl Vessels | 0648-BH70
190 | Vessel Movement, Monitoring, and Declaration Management Enhancement for the Pacific Coast Groundfish Fishery; Pacific Coast Groundfish Fishery Management Plan | 0648-BI45
191 | Requirements to Safeguard Fishery Observers in the Eastern Pacific Ocean | 0648-BI86
192 | Revisions to the Seabird Avoidance Program for the Pacific Coast Groundfish Fishery Management Plan | 0648-BI99
193 | Framework Adjustment 59 to the Northeast Multispecies Fishery Management Plan | 0648-BJ12
194 | Designation of Critical Habitat for the Arctic Ringed Seal | 0648-BC56
195 | Amendment and Updates to the Pelagic Longline Take Reduction Plan | 0648-BF90
196 | Endangered and Threatened Species; Designation of Critical Habitat for Threatened Caribbean and Indo-Pacific Reef-Building Corals | 0648-BG26
197 | Revision to Critical Habitat Designation for Endangered Southern Resident Killer Whales | 0648-BH95
198 | Designation of Critical Habitat for the Mexico, Central American, and Western Pacific Distinct Population Segments of Humpback Whales Under the Endangered Species Act | 0648-BI06

National Oceanic and Atmospheric Administration—Final Rule Stage
Sequence No. | Title | Regulation Identifier No.
199 | Jonah Crab Fishery; Interstate Fishery Management Plan for Jonah Crab | 0648-BF43
200 | Commerce Trusted Trader Program | 0648-BG51
201 | Rule to Implement the For-Hire Reporting Amendments | 0648-BG75
202 | Generic Amendment to the Fishery Management Plans for the Reef Fish Resources of the Gulf of Mexico and Coastal Migratory Pelagic Resources in the Gulf of Mexico and Atlantic Region | 0648-BH72
203 | Magnuson-Stevens Fisheries Conservation and Management Act; Traceability Information Program for Seafood (Reg Plan Seq No. 15) | 0648-BH87
204 | Atlantic Highly Migratory Species; Pelagic Longline Bluefin Tuna Area-Based and Weak Hook Management | 0648-BI51
205 | Reduce Gulf of Mexico Red Grouper Annual Catch Limits and Annual Catch Targets | 0648-BI63
206 | Interim 2019 Tribal Pacific Whiting Allocation and Require Consideration of Chinook Salmon Bycatch Before Reapportioning Tribal Whiting; Pacific Coast Groundfish | 0648-BI67
207 | Framework Action to Reduce Gulf of Mexico Red Grouper Annual Catch Limits and Annual Catch Targets to the Fishery Management Plan for the Reef Fish Resources of the Gulf of Mexico | 0648-BI95
208 | Amendment 18 to the Fishery Management Plan for the Shrimp Fishery of the Gulf of Mexico, U.S. Waters | 0648-BI96
209 | Reducing Disturbances to Hawaiian Spinner Dolphins From Human Interactions | 0648-AU02
210 | Taking and Importing Marine Mammals: Taking Marine Mammals Incidental to Geophysical Surveys Related to Oil and Gas Activities in the Gulf of Mexico (Reg Plan Seq No. 14) | 0648-BB38
211 | Regulation to Reduce Incidental Bycatch and Mortality of Sea Turtles in the Southeastern U.S. Shrimp Fisheries | 0648-BG45
References in boldface appear in The Regulatory Plan in part II of this issue of the Federal Register.

National Oceanic and Atmospheric Administration—Long-Term Actions
Sequence No. | Title | Regulation Identifier No.
212 | Implementation of a Program for Transshipments by Large Scale Fishing Vessels in the Eastern Pacific Ocean | 0648-BD59
213 | Wisconsin-Lake Michigan National Marine Sanctuary Designation | 0648-BG01

National Oceanic and Atmospheric Administration—Completed Actions
Sequence No. | Title | Regulation Identifier No.
214 | Pacific Coast Groundfish Fishing Capacity Reduction Loan Refinance | 0648-BE90
215 | Regulatory Amendment to the Pacific Coast Groundfish Fishery Management Plan to Implement an Electronic Monitoring Program for the Pacific Whiting Fishery | 0648-BF52
216 | Halibut Deck Sorting Monitoring Requirements for Trawl Catcher/Processors Operating in Non-Pollock Groundfish Fisheries off Alaska | 0648-BI53
217 | Establishing an Overfishing Limit, Acceptable Biological Catch, and Annual Catch Limit for the Central Subpopulation of Northern Anchovy; Coastal Pelagic Species Fishery Management Plan | 0648-BI73

Patent and Trademark Office—Proposed Rule Stage
Sequence No. | Title | Regulation Identifier No.
218 | Trademark Fee Adjustment (Reg Plan Seq No. 16) | 0651-AD42
References in boldface appear in The Regulatory Plan in part II of this issue of the Federal Register.

Patent and Trademark Office—Final Rule Stage
Sequence No. | Title | Regulation Identifier No.
219 | Setting and Adjusting Patent Fees During Fiscal Year 2020 (Reg Plan Seq No. 17) | 0651-AD31
References in boldface appear in The Regulatory Plan in part II of this issue of the Federal Register.

DEPARTMENT OF COMMERCE (DOC)

International Trade Administration (ITA)

Proposed Rule Stage

178. Regulations Concerning Scope Inquiries and Covered Merchandise Referrals From U.S. Customs and Border Protection

E.O. 13771 Designation: Other.

Legal Authority: 19 U.S.C. 1671 et seq.; Pub. L. 114-125, sec. 421

Abstract: The Department of Commerce (Commerce) is proposing to amend its regulations concerning scope inquiries (19 CFR 351.225) and to set forth procedures addressing covered merchandise referrals from U.S. Customs and Border Protection (CBP or the Customs Service).

Timetable:

Action | Date | FR Cite
NPRM | 11/00/19 |

Regulatory Flexibility Analysis Required: Yes.

Agency Contact: Jessica Link, Department of Commerce, International Trade Administration, 1401 Constitution Avenue NW, Washington, DC 20230, Phone: 202 482-1411, Email: jessica.link@trade.gov.

RIN: 0625-AB10

DEPARTMENT OF COMMERCE (DOC)

Bureau of Industry and Security (BIS)

Final Rule Stage

179. Expansion of Export, Reexport, and Transfer (In-Country) Controls for Military End Use or Military End Users in the People's Republic of China (China), Russia, or Venezuela

E.O. 13771 Designation: Other.

Legal Authority: 10 U.S.C. 7420; 10 U.S.C. 7430(e); 15 U.S.C. 1824a; 22 U.S.C. 287c; 22 U.S.C. 3201 et seq.; 22 U.S.C. 6004; 22 U.S.C. 7201 et seq.; 22 U.S.C. 7210; 30 U.S.C. 185(s); 30 U.S.C. 185(u); 42 U.S.C. 2139a; 43 U.S.C. 1354; 50 U.S.C. 1701 et seq.; 50 U.S.C. 4305; 50 U.S.C. 4601 et seq.; E.O. 12058; E.O. 12851; E.O. 12938; E.O. 12947; E.O. 13026; E.O. 13099; E.O. 13222; E.O. 13224; Pub. L. 108-11

Abstract: The Bureau of Industry and Security (BIS) is amending the Export Administration Regulations (EAR) to expand license requirements on exports, reexports, and transfers (in-country) of items intended for military end use or military end users in the People's Republic of China (China), Russia, or Venezuela. Specifically, this rule expands the licensing requirements for China to include “military end users,” in addition to “military end use.” It broadens the items for which the licensing requirements and review policy apply and expand the definition of “military end use.” Next, it creates a new reason for control and associated review policy for regional stability for certain items to China, Russia, or Venezuela, moving existing text related to this policy. Finally, it adds Electronic Export Information filing requirements in the Automated Export System for exports to China, Russia, and Venezuela.

Timetable:

Action | Date | FR Cite
Final Action | 11/00/19 |

Regulatory Flexibility Analysis Required: Yes.

Agency Contact: Hillary Hess, Director, Regulatory Policy Division, Department of Commerce, Bureau of Industry and Security, 14th Street and Pennsylvania Avenue NW, Washington, DC 20230, Phone: 202 482-2440, Fax: 202 482-3355, Email: hillary.hess@bis.doc.gov.

RIN: 0694-AH53

DEPARTMENT OF COMMERCE (DOC)

National Oceanic and Atmospheric Administration (NOAA)

Proposed Rule Stage

National Marine Fisheries Service

180. Comprehensive Fishery Management Plan for Puerto Rico

E.O. 13771 Designation: Not subject to, not significant.

Legal Authority: 16 U.S.C. 1801 et seq.

Abstract: This rule would implement a comprehensive Puerto Rico Fishery Management Plan. The Plan would incorporate, and modify as needed, Federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. This new Plan, in conjunction with similar comprehensive Fishery Management Plans being developed for St. Croix and St. Thomas/St. John, would replace the Spiny Lobster, Reef Fish, Coral and Queen Conch Fishery Management Plans presently governing the commercial and recreational harvest in U.S. Caribbean exclusive economic zone waters.

Timetable:

Action | Date | FR Cite
NPRM | 11/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD32

181. Comprehensive Fishery Management Plan for St. Croix

E.O. 13771 Designation: Not subject to, not significant.

Legal Authority: 16 U.S.C. 1801 et seq.

Abstract: This rule would implement a comprehensive St. Croix Fishery Management Plan. The Plan would incorporate, and modify as needed, Federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. This new Plan, in conjunction with similar comprehensive Fishery Management Plans being developed for Puerto Rico and St. Thomas/St. John, would replace the Spiny Lobster, Reef Fish, Coral and Queen Conch Fishery Management Plans presently governing the commercial and recreational harvest in U.S. Caribbean exclusive economic zone waters.

Timetable:

Action | Date | FR Cite
NPRM | 11/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD33

182. Comprehensive Fishery Management Plan for St. Thomas/St. John

E.O. 13771 Designation: Not subject to, not significant.

Legal Authority: 16 U.S.C. 1801 et seq.

Abstract: This rule would implement a comprehensive St. Thomas/St. John Fishery Management Plan. The Plan would incorporate, and modify as needed, Federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. This new Plan, in conjunction with similar comprehensive Fishery Management Plans being developed for St. Croix and Puerto Rico, would replace the Spiny Lobster, Reef Fish, Coral and Queen Conch Fishery Management Plans presently governing the commercial and recreational harvest in U.S. Caribbean exclusive economic zone waters.

Timetable:

Action | Date | FR Cite
NPRM | 11/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD34

183. International Fisheries; Western and Central Pacific Fisheries for Highly Migratory Species; Treatment of U.S. Purse Seine Fishing With Respect to U.S. Territories

E.O. 13771 Designation: Deregulatory.

Legal Authority: 16 U.S.C. 6901 et seq.

Abstract: This action would establish rules and/or procedures to address the treatment of U.S.-flagged purse seine vessels and their fishing activities in regulations issued by the National Marine Fisheries Service that implement decisions of the Commission for the Conservation and Management of Highly Migratory Fish Stocks in the Western and Central Pacific Ocean (Commission), of which the United States is a member. Under the Western and Central Pacific Fisheries Convention Implementation Act, the National Marine Fisheries Service exercises broad discretion when determining how it implements Commission decisions, such as purse seine fishing restrictions. The National Marine Fisheries Service intends to examine the potential impacts of the domestic implementation of Commission decisions, such as purse seine fishing restrictions, on the economies of the U.S. territories that participate in the Commission, and examine the connectivity between the activities of U.S.-flagged purse seine fishing vessels and the economies of the territories. Based on that and other information, the National Marine Fisheries Service might propose regulations that mitigate adverse economic impacts of purse seine fishing restrictions on the U.S. territories and/or that, in the context of the Convention on the Conservation and Management of Highly Migratory Fish Stocks in the Western and Central Pacific Ocean (Convention), recognize that one or more of the U.S. territories have their own purse seine fisheries that are distinct from the purse seine fishery of the United States and that are consequently subject to special provisions of the Convention and of Commission decisions.

Timetable:

Action | Date | FR Cite
ANPRM | 10/23/15 | 80 FR 64382
ANPRM Comment Period End | 11/23/15 |
NPRM | 09/00/20 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BF41

184. International Fisheries; South Pacific Tuna Fisheries; Implementation of Amendments to the South Pacific Tuna Treaty

E.O. 13771 Designation: Not subject to, not significant.

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean. The rule would implement only those aspects of the Treaty amendments that can be implemented under the existing South Pacific Tuna Act.

Timetable:

Action | Date | FR Cite
NPRM | 11/00/19 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG04

185. Illegal, Unregulated, and Unreported Fishing; Fisheries Enforcement; High Seas Driftnet Fishing Moratorium Protection Act

E.O. 13771 Designation: Regulatory.

Legal Authority: Pub. L. 114-81

Abstract: This proposed rule will make conforming amendments to regulations implementing the various statutes amended by the Illegal, Unreported and Unregulated Fishing Enforcement Act of 2015 (Pub. L. 114-81). The Act amends several regional fishery management organization implementing statutes as well as the High Seas Driftnet Fishing Moratorium Protection Act. It also provides authority to implement two new international agreements under the Antigua Convention, which amends the Convention for the establishment of an Inter-American Tropical Tuna Commission, and the United Nations Food and Agriculture Organization Agreement on Port State Measures to Prevent, Deter, and Eliminate Illegal, Unreported and Unregulated Fishing (Port State Measures Agreement), which restricts the entry into U.S. ports by foreign fishing vessels that are known to be or are suspected of engaging in illegal, unreported, and unregulated fishing. This proposed rule will also implement the Port State Measures Agreement. To that end, this proposed rule will require the collection of certain information from foreign fishing vessels requesting permission to use U.S. ports. It also includes procedures to designate and publicize the ports to which foreign fishing vessels may seek entry and procedures for conducting inspections of these foreign vessels accessing U.S. ports. Further, the rule establishes procedures for notification of: the denial of port entry or port services for a foreign vessel, the withdrawal of the denial of port services if applicable, the taking of enforcement action with respect to a foreign vessel, or the results of any inspection of a foreign vessel to the flag nation of the vessel and other competent authorities as appropriate.

Timetable:

Action | Date | FR Cite
NPRM | 12/00/19 |

Regulatory Flexibility Analysis Required: Yes.

Agency Contact: Alexa Cole, Acting Director, Office of International Affairs and Seafood Inspection, Department of Commerce, National Oceanic and Atmospheric Administration, 1315 East-West Highway, Silver Spring, MD 20910, Phone: 301 427-8286, Email: alexa.cole@noaa.gov.

RIN: 0648-BG11

186. International Fisheries; Western and Central Pacific Fisheries for Highly Migratory Species; Requirements To Safeguard Fishery Observers

E.O. 13771 Designation: Not subject to, not significant.

Legal Authority: 16 U.S.C. 6901 et seq.

Abstract: This rule would establish requirements to enhance the safety of fishery observers on highly migratory species fishing vessels. This rule would be issued under the authority of the Western and Central Pacific Fisheries Convention Implementation Act, and pursuant to decisions made by the Commission for the Conservation and Management of Highly Migratory Fish Stocks in the Western and Central Pacific Ocean. This action is necessary for the United States to satisfy its obligations under the Convention on the Conservation and Management of Highly Migratory Fish Stocks in the Western and Central Pacific Ocean, to which it is a Contracting Party.

Timetable:

Action | Date | FR Cite
NPRM | 03/00/20 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG66

187. Area of Overlap Between the Convention Areas of the Inter-American Tropical Tuna Commission and the Western and Central Pacific Fisheries Commission

E.O. 13771 Designation: Deregulatory.

Legal Authority: 16 U.S.C. 6901 et seq.; 16 U.S.C. 951 et seq.

Abstract: Under authority of the Western and Central Pacific Fisheries Convention Implementation Act and the Tuna Conventions Act, an area of overlap (overlap area) exists between the respective areas of competence of the Commission for the Conservation and Management of Highly Migratory Fish Stocks in the Western and Central Pacific Ocean and the Inter-American Tropical Tuna Commission. NMFS proposes to change the application of the two Commissions' management decisions in the overlap area to specifically apply Inter-American Tropical Tuna Commission management measures in the overlap area rather than those of the Commission for the Conservation and Management of Highly Migratory Fish Stocks in the Western and Central Pacific Ocean that currently apply there.

Timetable:

Action | Date | FR Cite
ANPRM | 06/12/18 | 83 FR 27305
ANPRM Comment Period End | 07/12/18 |
NPRM | 11/00/19 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BH59

188. Omnibus Deep-Sea Coral Amendment

E.O. 13771 Designation: Regulatory.

Legal Authority: 16 U.S.C. 1801 et seq.

Abstract: This action would implement the New England Fishery Management Council's Omnibus Deep-Sea Coral Amendment. The Amendment would implement measures that reduce impacts of fishing gear on deep-sea corals in the Gulf of Maine and on the outer continental shelf. In doing so, this action would prohibit the use of mobile bottom-tending gear in two areas in the Gulf of Maine (Mount Desert Rock and Outer Schoodic Ridge), and it would prohibit the use of all gear (with an exception for red crab pots) along the outer continental shelf in waters deeper than a minimum of 600 meters.

Timetable:

Action | Date | FR Cite
Notice of Availability | 08/26/19 | 84 FR 44596
NPRM | 12/00/19 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BH67

189. Regulatory Amendment to the Pacific Coast Groundfish Fishery Management Plan To Implement an Electronic Monitoring Program for Bottom Trawl and Non-Whiting Midwater Trawl Vessels

E.O. 13771 Designation: Deregulatory.

Legal Authority: 16 U.S.C. 1801 et seq.

Abstract: The proposed action would implement a regulatory amendment to the Pacific Fishery Management Council's Pacific Coast Groundfish Fishery Management Plan to allow bottom trawl and midwater trawl vessels targeting non-whiting species the option to use electronic monitoring (video cameras and associated sensors) in place of observers to meet requirements for 100-percent observer coverage. By allowing vessels the option to use electronic monitoring to meet monitoring requirements, this action is intended to increase operational flexibility and reduce monitoring costs for the fleet.

Timetable:

Action | Date | FR Cite
NPRM | 11/00/19 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH70

190. Vessel Movement, Monitoring, and Declaration Management Enhancement for the Pacific Coast Groundfish Fishery; Pacific Coast Groundfish Fishery Management Plan

E.O. 13771 Designation: Deregulatory.

Legal Authority: 16 U.S.C. 1801 et seq.

Abstract: This rulemaking action would implement the Pacific Fishery Management Council's action to implement various measures that provide more efficient and effective monitoring, improve enforcement of restricted areas, and reduce costs for the Pacific coast groundfish fleet. This action would: Increase the required frequency of signals transmitted from type-approved vessel monitoring system (VMS) units from once per hour to every 15 minutes to provide finer-scale vessel location data; allow vessels to use alternative VMS units; add a VMS declaration to indicate when a vessel is testing gear; allow vessels participating in the midwater trawl whiting fishery to change their declaration while at-sea to select a new whiting fishery; and allow vessels to move pot gear from one management area to another during a single trip while retaining fish from the primary management area.

Timetable:

Action | Date | FR Cite
NPRM | 10/10/19 | 84 FR 54579
NPRM Comment Period End | 11/12/19 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI45

191. Requirements To Safeguard Fishery Observers in the Eastern Pacific Ocean

E.O. 13771 Designation: Not subject to, not significant.

Legal Authority: 16 U.S.C. 951 et seq.

Abstract: This rulemaking action would domestically implement recently adopted resolutions on improving observer safety at sea by parties to the Inter-American Tropical Tuna Commission (IATTC) and the Agreement on the International Dolphin Conservation Program (AIDCP), including the United States. The resolutions are binding for IATTC member nations and AIDCP Parties, and under the Tuna Conventions Act, 16 U.S.C. 951 et seq. and the Marine Mammal Protection Act of 1972, as amended. These resolutions aim to strengthen protections for observers required in longline and transshipment observer programs required under the IATTC and on purse seine vessels required by the AIDCP. In implementing them, this rulemaking proposes to include provisions that detail responsibilities for vessel owners and operators, responsibilities for IATTC and AIDCP members to which fishing vessels are flagged, responsibilities for members that have jurisdiction over ports, and responsibilities for observer providers. The action is necessary for the United States to satisfy its international obligations as a Member of the IATTC and AIDCP.

Timetable:

Action | Date | FR Cite
NPRM | 11/00/19 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI86

192. • Revisions to the Seabird Avoidance Program for the Pacific Coast Groundfish Fishery Management Plan

E.O. 13771 Designation: Not subject to, not significant.

Legal Authority: 16 U.S.C. 1801 et seq.

Abstract: In response to a recommendation by the Pacific Fishery Management Council, this proposed rule would require commercial groundfish bottom longline vessels 26 feet length overall (LOA) and longer managed under the Pacific Coast Groundfish Fishery Management Plan (FMP) to deploy streamer lines or to set gear during civil twilight when fishing in Federal waters north of 36 degrees N. latitude. The purpose of this proposed rule is to reduce interactions between seabirds, especially Endangered Species Act listed species, and groundfish longline gear. The action is necessary to fulfill terms and conditions of a 2017 biological opinion published by the United States Fish and Wildlife Service to minimize takes of endangered short-tailed albatross by the Pacific Coast groundfish fishery.

Timetable:

Action | Date | FR Cite
NPRM | 09/12/19 | 84 FR 48094
NPRM Comment Period End | 10/15/19 |
Final Rule | 12/00/19 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI99

193. • Framework Adjustment 59 to the Northeast Multispecies Fishery Management Plan

E.O. 13771 Designation: Not subject to, not significant.

Legal Authority: 16 U.S.C. 1801 et seq.

Abstract: This rulemaking action proposes to implement management measures included in the New England Fishery Management Council's Framework Adjustment 59 to the Northeast Multispecies Fishery Management Plan (Framework 59) developed in response to new scientific information. The proposed action would set fishing years 2020-2022 specifications for 15 groundfish stocks, and fishing year 2020 total allocable catches (TAC) for the three U.S./Canada stocks: Eastern Georges Bank cod, Eastern Georges Bank haddock, and Georges Bank yellowtail flounder. This action would also revise the Georges Bank cod incidental TAC to remove the allocation to the Closed Area I Hook Gear Haddock Special Access Program, and as necessary in response to any new data coming from the Marine Recreational Information Program, address commercial/recreational allocation issues.

Timetable:

Action | Date | FR Cite
NPRM | 02/00/20 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BJ12

194. Designation of Critical Habitat for the Arctic Ringed Seal

E.O. 13771 Designation: Regulatory.

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
Proposed Rule 2 | 09/00/20 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BC56

195. Amendment and Updates to the Pelagic Longline Take Reduction Plan

E.O. 13771 Designation: Not subject to, not significant.

Legal Authority: 16 U.S.C. 1361 et seq.

Abstract: Serious injury and mortality of the Western North Atlantic short-finned pilot whale stock incidental to the Category I Atlantic pelagic longline fishery continues at levels exceeding their Potential Biological Removal. This proposed action will examine a number of management measures to amend the Pelagic Longline Take Reduction Plan to reduce the incidental mortality and serious injury of short-finned pilot whales taken in the Atlantic Pelagic Longline fishery to below Potential Biological Removal. Potential management measures may include changes to the current limitations on mainline length, new requirements to use weak hooks (hooks with reduced breaking strength), and non-regulatory measures related to determining the best procedures for safe handling and release of marine mammals. The need for the proposed action is to ensure the Pelagic Longline Take Reduction Plan meets its Marine Mammal Protection Act mandated short- and long-term goals.

Timetable:

Action | Date | FR Cite
NPRM | 01/00/20 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BF90

196. Endangered and Threatened Species; Designation of Critical Habitat for Threatened Caribbean and Indo-Pacific Reef-Building Corals

E.O. 13771 Designation: Regulatory.

Legal Authority: 16 U.S.C. 1531 et seq.

Abstract: On September 10, 2014, the National Marine Fisheries Service listed 20 species of reef-building corals as threatened under the Endangered Species Act, 15 in the Indo-Pacific and five in the Caribbean. Of the 15 Indo-Pacific species, seven occur in U.S. waters of the Pacific Islands Region, including in American Samoa, Guam, the Commonwealth of the Mariana Islands, and the Pacific Remote Island Areas. This proposed rule would designate critical habitat for the seven species in U.S. waters (Acropora globiceps, Acropora jacquelineae, Acropora retusa, Acropora speciosa, Euphyllia paradivisa, Isopora crateriformis, and Seriatopora aculeata). The proposed designation would cover coral reef habitat around 17 island or atoll units in the Pacific Islands Region, including four in American Samoa, one in Guam, seven in the Commonwealth of the Mariana Islands, and five in Pacific Remote Island Areas, containing essential features that support reproduction, growth, and survival of the listed coral species. This rule also proposes to designate critical habitat for the five Caribbean corals and proposed to revise critical habitat for two previously-listed corals, Acropora palmata and Acropora cervicornis.

Timetable:

Action | Date | FR Cite
NPRM | 06/00/20 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BG26

197. Revision to Critical Habitat Designation for Endangered Southern Resident Killer Whales

E.O. 13771 Designation: Regulatory.

Legal Authority: 16 U.S.C. 1531 et seq.

Abstract: The proposed action would revise the designation of critical habitat for the endangered Southern Resident killer whale distinct population segment, pursuant to section 4 of the Endangered Species Act. Critical habitat for this population is currently designated within inland waters of Washington. In response to a 2014 petition, NMFS is proposing to expand the designation to include areas occupied by Southern Resident killer whales in waters along the U.S. West Coast. Impacts from the designation would stem mainly from Federal agencies' requirement to consult with NMFS, under section 7 of the Endangered Species Act, to ensure that any action they carry out, permit (authorize), or fund will not result in the destruction or adverse modification of critical habitat of a listed species. Federal agencies are already required to consult on effects to the currently designated critical habitat in inland waters of Washington, but consultation would be newly required for actions affecting the expanded critical habitat areas. Federal agencies are also already required to consult within the Southern Resident killer whales' range (including along the U.S. West Coast) to ensure that any action they carry out, permit, or fund will not jeopardize the continued existence of the species; this requirement would not change with a revision to the critical habitat designation.

Timetable:

Action | Date | FR Cite
NPRM | 09/19/19 | 84 FR 49214
NPRM Comment Period End | 12/18/19 |
Final Rule | 09/00/20 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BH95

198. Designation of Critical Habitat for the Mexico, Central American, and Western Pacific Distinct Population Segments of Humpback Whales Under the Endangered Species Act

E.O. 13771 Designation: Regulatory.

Legal Authority: 16 U.S.C. 1531 et seq.

Abstract: This action will propose the designation of critical habitat for three distinct population segments of humpback whales (Megaptera novaeangliae) pursuant to section 4 of the Endangered Species Act. The three distinct population segments of humpback whales concerned—the Mexico, Central American, and Western Pacific distinct population segments—were listed under the Endangered Species Act on September 8, 2016, thereby triggering the requirement under section 4 of the Endangered Species Act to designate critical habitat to the maximum extent prudent and determinable. Proposed critical habitat for these three distinct population segments of humpback whales will include marine habitats within the Pacific Ocean and Bering Sea and will likely overlap with several existing designations, including critical habitat for leatherback sea turtles, North Pacific right whales, Steller sea lions, southern resident killer whales, and the southern distinct population segment of green sturgeon. Impacts from the designations for humpback whales would stem from the statutory requirement for Federal agencies to consult with NMFS, under section 7 of the Endangered Species Act, to ensure that any action they carry out, authorize, or fund will not result in the destruction or adverse modification of humpback whale critical habitat. Within many of the areas we are evaluating for potential proposal as critical habitat for the humpback whales distinct population segments, Federal agencies are already required to consult on effects to currently designated critical habitat for other listed species. Federal agencies are also already required to consult with NMFS under section 7 of the Endangered Species Act to ensure that any action they authorize, fund or carry out will not jeopardize the continued existence of the listed distinct population segments of humpback whales.

Timetable:

Action | Date | FR Cite
NPRM | 10/09/19 | 84 FR 54354
NPRM Comment Period End | 12/09/19 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BI06

DEPARTMENT OF COMMERCE (DOC)

National Oceanic and Atmospheric Administration (NOAA)

Final Rule Stage

National Marine Fisheries Service

199. Jonah Crab Fishery; Interstate Fishery Management Plan for Jonah Crab

E.O. 13771 Designation: Not subject to, not significant.

Legal Authority: 16 U.S.C. 1801 et seq.; 16 U.S.C. 5101 et seq.

Abstract: The National Marine Fisheries Service proposes Federal Jonah crab regulations to help achieve the goal of the Atlantic States Marine Fisheries Commission's Interstate Fishery Management Plan to promote Jonah crab conservation, reduce the possibility of recruitment failure, and allow the industry to continue fishing the resource at present levels. The Jonah Crab Plan was developed out of concern for potential impacts to the status of the Jonah crab resource, given the recent and rapid increase in landings. Commercial and recreational measures and reporting requirements were recommended for Federal implementation in the Jonah Crab Plan. Measures include: Permitting, minimum size, prohibition on retaining egg-bearing females, and incidental bycatch limit, and reporting requirements that are consistent with American lobster fishery requirements. Most States have implemented measures consistent with the Plan. The proposed measures would complement those implemented by the States.

Timetable:

Action | Date | FR Cite
ANPRM | 10/13/16 | 81 FR 70658
ANPRM Comment Period End | 11/14/16 |
NPRM | 03/22/19 | 84 FR 10756
NPRM Comment Period End | 04/22/19 |
Final Action | 11/00/19 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BF43

200. Commerce Trusted Trader Program

E.O. 13771 Designation: Deregulatory.

Legal Authority: 16 U.S.C. 1801 et seq.

Abstract: This rule will establish a voluntary Commerce Trusted Trader Program for importers, aiming to provide benefits such as reduced targeting and inspections and enhanced streamlined entry into the United States for certified importers. Specifically, this rule would establish the criteria required of a Commerce Trusted Trader, and identify specifically how the program will be monitored and by whom. It will require that a Commerce Trusted Trader establish a secure supply chain and maintain the records necessary to verify the legality of all designated product entering into U.S. commerce, but will excuse the Commerce Trusted Trader from entering that data into the International Trade Data System prior to entry, as required by Seafood Import Monitoring Program (finalized on December 9, 2016). The rule will identify the benefits available to a Commerce Trusted Trader, detail the application process, and specify how the Commerce Trusted Trader will be audited by third-party entities while the overall program will be monitored by the National Marine Fisheries Service.

Timetable:

Action | Date | FR Cite
NPRM | 01/17/18 | 83 FR 2412
NPRM Comment Period End | 03/19/18 |
Withdrawal | 12/00/19 |

Regulatory Flexibility Analysis Required: Yes.

Agency Contact: Alexa Cole, Acting Director, Office of International Affairs and Seafood Inspection, Department of Commerce, National Oceanic and Atmospheric Administration, 1315 East-West Highway, Silver Spring, MD 20910, Phone: 301 427-8286, Email: alexa.cole@noaa.gov.

RIN: 0648-BG51

201. Rule To Implement the For-Hire Reporting Amendments

E.O. 13771 Designation: Not subject to, not significant.

Legal Authority: 16 U.S.C. 1801 et seq.

Abstract: This rule proposes to implement Amendment 39 for the Snapper-Grouper Fishery of the South Atlantic Region, Amendment 9 for the Dolphin and Wahoo Fishery of the Atlantic, and Amendment 27 to the Coastal Migratory Pelagics Fishery of the Gulf of Mexico and Atlantic Regions (For-Hire Reporting Amendments). The For-Hire Reporting Amendments rule proposes mandatory weekly electronic reporting for charter vessel operators with a Federal for-hire permit in the snapper-grouper, dolphin wahoo, or coastal migratory pelagics fisheries; reduces the time allowed for headboat operators to complete their electronic reports; and requires location reporting by charter vessels with the same level of detail currently required for headboat vessels.

Timetable:

Action | Date | FR Cite
Notice of Availability | 03/14/18 | 83 FR 11164
NPRM | 04/04/18 | 83 FR 14400
NPRM Comment Period End | 05/04/18 |
Final Action | 11/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG75

202. Generic Amendment to the Fishery Management Plans for the Reef Fish Resources of the Gulf of Mexico and Coastal Migratory Pelagic Resources in the Gulf of Mexico and Atlantic Region

E.O. 13771 Designation: Not subject to, not significant.

Legal Authority: 16 U.S.C. 1801 et seq.

Abstract: This action, recommended by the Gulf of Mexico Fishery Management Council, would modify data reporting for owners or operators of federally permitted for-hire vessels (charter vessels and headboats) in the Gulf of Mexico, requiring them to declare the type of trip (for-hire or other) prior to departing for any trip, and electronically submit trip-level reports prior to off-loading fish at the end of each fishing trip. The declaration would include the expected return time and landing location. Landing reports would include information about catch and effort during the trip. The action would also require that these reports be submitted via approved hardware that includes a global positioning system attached to the vessel that is capable, at a minimum, of archiving global positioning system locations. This requirement would not preclude the use of global positioning system devices that provide real-time location data, such as the currently approved vessel monitoring systems.

Timetable:

Action | Date | FR Cite
Notice of Availability | 06/21/18 | 83 FR 28797
NPRM | 10/26/18 | 83 FR 54069
Correction | 11/08/18 | 83 FR 55850
Comment Period Extended | 11/20/18 | 83 FR 58522
NPRM Comment Period End | 11/26/18 |
Comment Period Extended End | 01/09/19 |
Final Action | 01/00/20 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BH72

203. Magnuson-Stevens Fisheries Conservation and Management Act; Traceability Information Program for Seafood

Regulatory Plan: This entry is Seq. No. 15 in part II of this issue of the Federal Register.

RIN: 0648-BH87

204. Atlantic Highly Migratory Species; Pelagic Longline Bluefin Tuna Area-Based and Weak Hook Management

E.O. 13771 Designation: Deregulatory.

Legal Authority: 16 U.S.C. 1801 et seq.; 16 U.S.C. 971 et seq.

Abstract: Atlantic Highly Migratory Species (HMS) fisheries are managed under the dual authority of the Magnuson-Stevens Conservation and Management Act (Magnuson-Stevens Act) and the Atlantic Tunas Convention Act (ATCA). This rulemaking will address the area-based and weak hook management measures for bluefin tuna in the pelagic longline fishery. NMFS implemented an individual bluefin tuna quota system for pelagic longline fishery participants in 2015. With this approach and its emphasis on individual vessel accountability, NMFS has determined some fleetwide measures may be redundant. This action would appropriately streamline regulations and increase flexibility to the Atlantic pelagic longline fishery while maintaining bycatch reduction and conservation and management obligations.

Timetable:

Action | Date | FR Cite
NPRM | 07/12/19 | 84 FR 33205
NPRM Correction | 08/08/19 | 84 FR 38918
NPRM Comment Period End | 09/30/19 |
Final Action | 04/00/20 |

Regulatory Flexibility Analysis Required: Yes.

Agency Contact: Alan Risenhoover, Director, Office of Sustainable Fisheries, Department of Commerce, National Oceanic and Atmospheric Administration, 1315 East-West Highway, Room 13362, Silver Spring, MD 20910, Phone: 301 713-2334, Fax: 301 713-0596, Email: alan.risenhoover@noaa.gov.

RIN: 0648-BI51

205. Reduce Gulf of Mexico Red Grouper Annual Catch Limits and Annual Catch Targets

E.O. 13771 Designation: Not subject to, not significant.

Legal Authority: 16 U.S.C. 1801 et seq.

Abstract: The Gulf of Mexico Fishery Management Council (Council) has requested that NMFS publish a rule under section 305(c) of the Magnuson-Stevens Fishery Conservation and Management Act (MSA) to temporarily reduce the red grouper commercial and recreational Annual Catch Limits (ACLs) and associated Annual Catch Targets (ACTs). In October 2018, the Council's Scientific and Statistical Committee (SSC) reviewed the results of an interim analysis performed by the Southeast Fisheries Science Center and recommended that the Council reduce the red grouper commercial and recreational ACLs and ACTs, effective for the 2019 fishing year. In addition, there have been recent deceases in red grouper landings and public testimony at the October Council meeting expressed concern about the status of the red grouper stock. Therefore, the Council is developing a framework action to reduce the ACLs and ACTs. In the meantime, based on these recent unforeseen circumstances, and consistent with the Council's request, NMFS intends to implement a rule under MSA section 305(c) to establish lower red grouper ACLs and ACTs for 2019.

Timetable:

Action | Date | FR Cite
Proposed Emergency Rule | 03/05/19 | 84 FR 7864
Proposed Emergency Rule Comment Period End | 03/20/19 |
Final Emergency Rule | 05/17/19 | 84 FR 22389
Final Emergency Rule Effective | 05/17/19 |
Extension of Emergency Rule | 11/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BI63

206. Interim 2019 Tribal Pacific Whiting Allocation and Require Consideration of Chinook Salmon Bycatch Before Reapportioning Tribal Whiting; Pacific Coast Groundfish

E.O. 13771 Designation: Not subject to, not significant.

Legal Authority: 16 U.S.C. 1801 et seq.

Abstract: NMFS issued a final rule for the tribal Pacific whiting (whiting) fishery off the coast of Washington State. The purpose is to establish an interim 2019 tribal whiting allocation, and to protect ESA-listed Chinook salmon, as required in the Terms and Conditions of a December 11, 2017, Biological Opinion. NMFS developed this rule after discussions with the affected tribes and the non-tribal fisheries interests. As in prior years, this allocation is an “interim” allocation that is not intended to set precedent for future years.

Timetable:

Action | Date | FR Cite
NPRM | 03/15/19 | 84 FR 9471
NPRM Comment Period End | 04/01/19 |
Final Rule | 05/10/19 | 84 FR 20578
Final Rule Effective | 05/10/19 |
Correcting Amendment | 11/00/19 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI67

207. • Framework Action To Reduce Gulf of Mexico Red Grouper Annual Catch Limits and Annual Catch Targets to the Fishery Management Plan for the Reef Fish Resources of the Gulf of Mexico

E.O. 13771 Designation: Not subject to, not significant.

Legal Authority: 16 U.S.C. 1801 et seq.

Abstract: NMFS proposes to implement management measures described in a framework action to the Fishery Management Plan (FMP) for the Reef Fish Resources of the Gulf of Mexico (Gulf), as prepared by the Gulf of Mexico Fishery Management Council (Council). The framework action is titled “Modification of Gulf of Mexico Red Grouper Annual Catch Limits and Annual Catch Targets.” This proposed rule would reduce the red grouper commercial and recreational annual catch limits (ACLs) and annual catch targets (ACTs). The purpose of this rule is to continue the Gulf red grouper commercial and recreational ACL and ACT reductions implemented through emergency rulemaking in 2019 to protect the stock and to continue to achieve optimum yield.

Timetable:

Action | Date | FR Cite
NPRM | 07/19/19 | 84 FR 34845
NPRM Comment Period End | 08/19/19 |
Final Rule | 10/01/19 | 84 FR 52036
Final Rule Effective | 10/31/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BI95

208. • Amendment 18 to the Fishery Management Plan for the Shrimp Fishery of the Gulf of Mexico, U.S. Waters

E.O. 13771 Designation: Deregulatory.

Legal Authority: 16 U.S.C. 1801 et seq.

Abstract: This action would implement the Gulf of Mexico Fishery Management Council's Amendment 18 to the Shrimp Fishery Management Plan. It would do so by adjusting the target reduction goal for juvenile red snapper mortality in the Federal Gulf of Mexico (Gulf) shrimp trawl fishery in the 10-30 fathom depth zone, as well as modifying the Plan's framework procedure to streamline the process to make future modifications to this target reduction goal. As part of the Gulf red snapper rebuilding plan, NMFS previously capped effort in the Gulf shrimp fishery based on Council recommendation to protect juvenile red snapper caught as bycatch in shrimp nets. However, the Gulf red snapper stock is no longer overfished or undergoing overfishing, and the red snapper stock acceptable biological catch (ABC) has consistently increased under the rebuilding plan. Accordingly, this action is expected to promote economic stability and achievement of optimum yield in the Federal Gulf shrimp fishery by reducing effort constraints, while continuing to protect Gulf red snapper.

Timetable:

Action | Date | FR Cite
Notice of Availability | 08/01/19 | 84 FR 37611
NPRM | 08/29/19 | 84 FR 45459
NPRM Comment Period End | 09/30/19 |
Final Action | 11/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BI96

209. Reducing Disturbances to Hawaiian Spinner Dolphins From Human Interactions

E.O. 13771 Designation: Not subject to, not significant.

Legal Authority: 16 U.S.C. 1361 et seq.

Abstract: This action would implement regulatory measures under the Marine Mammal Protection Act to protect Hawaiian spinner dolphins that are resting in protected bays from take due to close approach interactions with humans.

Timetable:

Action | Date | FR Cite
ANPRM | 12/12/05 | 70 FR 73426
ANPRM Comment Period End | 01/11/06 |
NPRM | 08/24/16 | 81 FR 57854
NPRM Comment Period End | 10/23/16 |
NPRM Comment Period Reopened | 11/16/16 | 81 FR 80629
NPRM Comment Period Reopened End | 12/01/16 |
Final Action | 01/00/20 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-AU02

210. Taking and Importing Marine Mammals: Taking Marine Mammals Incidental to Geophysical Surveys Related to Oil and Gas Activities in the Gulf of Mexico

Regulatory Plan: This entry is Seq. No. 14 in part II of this issue of the Federal Register.

RIN: 0648-BB38

211. Regulation To Reduce Incidental Bycatch and Mortality of Sea Turtles in the Southeastern U.S. Shrimp Fisheries

E.O. 13771 Designation: Regulatory.

Legal Authority: 16 U.S.C. 1531 et seq.

Abstract: The purpose of the proposed action is to aid in the protection and recovery of listed sea turtle populations by reducing incidental bycatch and mortality of small sea turtles in the Southeastern U.S. shrimp fisheries. As a result of new information on sea turtle bycatch in shrimp trawls and turtle excluder device testing, NMFS conducted an evaluation of the Southeastern U.S. shrimp fisheries that resulted in a draft environmental impact statement. This rule proposes to withdraw the alternative tow time restriction and require certain vessels using skimmer trawls, pusher-head trawls, and wing nets (butterfly trawls), with the exception of vessels participating in the Biscayne Bay wing net fishery in Miami-Dade County, Florida, to use turtle excluder devices designed to exclude small sea turtles.

Timetable:

Action | Date | FR Cite
NPRM | 12/16/16 | 81 FR 91097
NPRM Comment Period End | 02/14/17 |
Final Action | 12/00/19 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BG45

DEPARTMENT OF COMMERCE (DOC)

National Oceanic and Atmospheric Administration (NOAA)

Long-Term Actions

National Marine Fisheries Service

212. Implementation of a Program for Transshipments by Large Scale Fishing Vessels in the Eastern Pacific Ocean

E.O. 13771 Designation: Not subject to, not significant.

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: Criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable:

Action | Date | FR Cite
NPRM | To Be Determined

Regulatory Flexibility Analysis Required: Yes.

Agency Contact: Barry Thom, Phone: 503 231-6266, Email: barry.thom@noaa.gov.

RIN: 0648-BD59

NOS/ONMS

213. Wisconsin-Lake Michigan National Marine Sanctuary Designation

E.O. 13771 Designation: Regulatory.

Legal Authority: 16 U.S.C. 1431 et seq.

Abstract: On December 2, 2014, pursuant to section 304 of the National Marine Sanctuaries Act and the Sanctuary Nomination Process (79 FR 33851), a coalition of community groups submitted a nomination asking NOAA to designate an area of Wisconsin's Lake Michigan waters as a national marine sanctuary. The area is a region that includes 875 square miles of Lake Michigan waters and bottomlands adjacent to Manitowoc, Sheboygan, and Ozaukee counties and the cities of Port Washington, Sheboygan, Manitowoc, and Two Rivers. It includes 80 miles of shoreline and extends 9 to 14 miles from the shoreline. The area contains an extraordinary collection of submerged maritime heritage resources (shipwrecks) as demonstrated by the listing of 15 shipwrecks on the National Register of Historic Places. The area includes 39 known shipwrecks, 123 reported vessel losses, numerous other historic maritime-related features, and is adjacent to communities that have embraced their centuries-long relationship with Lake Michigan. NOAA completed its review of the nomination in accordance with the Sanctuary Nomination Process and on February 5, 2015, added the area to the inventory of nominations that are eligible for designation. On October 7, 2015, NOAA issued a notice of intent to begin the designation process and asked for public comment on making this area a national marine sanctuary. Designation under the National Marine Sanctuaries Act would allow NOAA to supplement and complement work by the State of Wisconsin and other Federal agencies to protect this collection of nationally significant shipwrecks.

Timetable:

Action | Date | FR Cite
NPRM | 01/09/17 | 82 FR 2269
NPRM Comment Period End | 03/31/17
Final Action | 11/00/20

Regulatory Flexibility Analysis Required: Yes.

Agency Contact: Vicki Wedell, Phone: 240 533-0650, Email: vicki.wedell@noaa.gov.

RIN: 0648-BG01

DEPARTMENT OF COMMERCE (DOC)

National Oceanic and Atmospheric Administration (NOAA)

Completed Actions

214. Pacific Coast Groundfish Fishing Capacity Reduction Loan Refinance

E.O. 13771 Designation: Not subject to, not significant.

Legal Authority: 16 U.S.C. 1801 et seq.; 16 U.S.C. 1861 et seq.; 5 U.S.C. 561 et seq.

Abstract: Congress enacted the 2015 National Defense Authorization Act to refinance the existing debt obligation funding the fishing capacity reduction program for the Pacific Coast Groundfish fishery implemented under section 212. Pending appropriation of funds to effect the refinance, the National Marine Fisheries Service issued proposed regulations to seek comment on the refinancing and to prepare for an industry referendum and final rule. However, a subsequent appropriation to fund the refinancing was never enacted. As a result, the National Marine Fisheries Service has no funds with which to proceed, and the refinancing authority cannot be implemented at this time.

Timetable:

Action | Date | FR Cite
NPRM | 08/06/15 | 80 FR 46941
NPRM Comment Period End | 09/08/15
Withdrawn | 08/28/19

Regulatory Flexibility Analysis Required: Yes.

Agency Contact: Brian Pawlak, Department of Commerce, National Oceanic and Atmospheric Administration, 1315 East-West Highway, Silver Spring, MD 20910, Phone: 301 427-8621, Email: brian.t.pawlak@noaa.gov.

RIN: 0648-BE90

215. Regulatory Amendment to the Pacific Coast Groundfish Fishery Management Plan To Implement an Electronic Monitoring Program for the Pacific Whiting Fishery

E.O. 13771 Designation: Deregulatory.

Legal Authority: 16 U.S.C. 1801 et seq.

Abstract: This action implements a regulatory amendment to the Pacific Coast Groundfish Fishery Management Plan to allow Pacific whiting vessels the option to use electronic monitoring (video cameras and associated sensors) in place of observers to meet requirements for 100-percent observer coverage. Vessels participating in the catch share program are required to carry an observer on all trips to ensure total accountability for at-sea discards. For some vessels, electronic monitoring may have lower costs than observers and a reduced logistical burden. By allowing vessels the option to use electronic monitoring to meet monitoring requirements, this action is intended to increase operational flexibility and reduce monitoring costs for the Pacific whiting fleet.

Timetable:

Action | Date | FR Cite
NPRM | 09/06/16 | 81 FR 61161
NPRM Comment Period End | 10/06/16
Final Rule | 06/28/19 | 84 FR 31146
Correction | 07/26/19 | 84 FR 36034
Final Rule Effective | 07/29/19
Correction Effective | 07/29/19

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BF52

216. Halibut Deck Sorting Monitoring Requirements for Trawl Catcher/Processors Operating in Non-Pollock Groundfish Fisheries off Alaska

E.O. 13771 Designation: Deregulatory.

Legal Authority: 16 U.S.C 1801 et seq.

Abstract: In the non-pollock trawl groundfish fisheries off Alaska, there are catch limits for Pacific halibut as a prohibited species if halibut mortality reaches the limit, the fishery closes regardless of whether or not fishery participants have reached the quotas for the actual target groundfish species. This proposed action would implement catch handling and monitoring requirements to allow the sorting of Pacific halibut prohibited species catch (PSC) on the deck of trawl catcher/processors and motherships participating in these fisheries. This would allow Pacific halibut to be discarded prior to entering the onboard factory, thereby reducing discard mortality. Reducing halibut discard mortality could in turn maximize harvest of the directed groundfish fisheries that otherwise might be constrained by the regulatory halibut PSC limits. To participate in halibut deck sorting, a vessel would be required to comply with additional monitoring and equipment requirements to ensure accurate accounting for halibut PSC sorted on deck. Participation in this program along with the associated costs would be voluntary, allowing for flexibility for individual vessel owners of non-pollock trawl catcher/processors and motherships to determine if the benefits of reduced halibut mortality, and the corresponding reduction in fleet-wide PSC rates, outweigh the individual costs of complying with the monitoring and enforcement requirements.

Timetable:

Action | Date | FR Cite
NPRM | 04/16/19 | 84 FR 15566
NPRM Comment Period End | 05/16/19
Final Rule | 10/15/19 | 84 FR 55044
Final Rule Effective | 11/14/19

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BI53

217. Establishing an Overfishing Limit, Acceptable Biological Catch, and Annual Catch Limit for the Central Subpopulation of Northern Anchovy; Coastal Pelagic Species Fishery Management Plan

E.O. 13771 Designation: Not subject to, not significant.

Legal Authority: 16 U.S.C. 1801 et seq.

Abstract: On January 18, 2018, the U.S. District Court for the Northern District of California granted summary judgment to the conservation group Oceana, in litigation over management of Northern Anchovy off the West Coast under the Magnuson-Stevens Fishery Conservation and Management Act (Oceana, Inc. v. Ross). Specifically, the court vacated all currently existing management reference points (i.e., Annual Catch Limit, Overfishing Limit, Acceptable Biological Catch) for the central subpopulation of Northern Anchovy (CSNA). This was followed by a separate court order requiring NMFS to establish a new Overfishing Limit (OFL), Acceptable Biological Catch (ABC), and Annual Catch Limit (ACL) no later than April 18, 2019. This action is the result of these court orders and establishes a new OFL, ABC, and ACL for the CSNA. NMFS originally intended to issue a final rule without advance public notice and comment to ensure a rule was in place before the court-ordered deadline. The Court rejected this plan and ordered NMFS to publish a proposed rule with opportunity for public comment followed by a final rule.

Timetable:

Action | Date | FR Cite
NPRM | 04/08/19 | 84 FR 13858
NPRM Comment Period End | 04/23/19
Final Action | 05/31/19 | 84 FR 25196
Final Action Effective | 07/01/19

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI73

DEPARTMENT OF COMMERCE (DOC)

Patent and Trademark Office (PTO)

Proposed Rule Stage

218. • Trademark Fee Adjustment

Regulatory Plan: This entry is Seq. No. 16 in part II of this issue of the Federal Register.

RIN: 0651-AD42

DEPARTMENT OF COMMERCE (DOC)

Patent and Trademark Office (PTO)

Final Rule Stage

219. Setting and Adjusting Patent Fees During Fiscal Year 2020

Regulatory Plan: This entry is Seq. No. 17 in part II of this issue of the Federal Register.

RIN: 0651-AD31

[FR Doc. 2019-26535 Filed 12-23-19; 8:45 am]

BILLING CODE 3510-12-P